DEPARTMENT OF ENERGY

Federal Energy Regulatory Commission

[Project No. 6951-018]

Tallassee Shoals, LLC; Notice of Revised Procedural Schedule for Environmental Assessment for the Proposed Project Relicense

On September 15, 2021, Tallassee Shoals, LLC. filed an application for a new license to continue to operate and maintain the 2.3-megawatt Tallassee Shoals Hydroelectric Project No. 6951 (Tallassee Shoals Project). On September 14, 2022, Commission staff issued a notice of intent to prepare an Environmental Assessment (EA) to evaluate the effects of relicensing the Tallassee Shoals Project. The notice of intent included a schedule for preparing a draft and final EA.

By this notice, Commission staff is updating the procedural schedule for completing a final EA. The revised schedule is shown below. Further revisions to the schedule may be made as appropriate.

Milestone | Target date
Issue EA | January 2024.

Any questions regarding this notice may be directed to Michael Spencer at (202) 502-6093, or by email at michael.spencer@ferc.gov.

Dated: October 27, 2023.
Debbie-Anne A. Reese,
Deputy Secretary.

[FR Doc. 2023-24256 Filed 11-2-23; 8:45 am]

BILLING CODE 6717-01-P